DEPARTMENT OF EDUCATION

Office of Elementary and Secondary Education Overview Information; Smaller Learning Communities Program; Notice Inviting Applications for New Awards Using Fiscal Year (FY) 2009 Funds

Catalog of Federal Domestic Assistance (CFDA) Number: 84.215L.

Dates: Applications Available: June 23, 2010.

Deadline for Notice of Intent to Apply: July 15, 2010.

Date of Pre-Application Meeting: The application package on the Smaller Learning Communities Web site at http://www.ed.gov/programs/slcp/index.html includes specific dates and times for technical assistance webinar events that will instruct applicants in completing the application package.

Deadline for Transmittal of Applications: August 6, 2010.

Full Text of Announcement

I. Funding Opportunity Description

Purpose of Program: The Smaller Learning Communities (SLC) program awards discretionary grants to local educational agencies (LEAs) to support the restructuring of large public high schools (i.e., schools with enrollments of 1,000 or more students) into smaller units for the purpose of improving academic achievement in large public high schools. These smaller units include freshman academies, multi-grade academies organized around career interests or other themes, “houses” in which small groups of students remain together throughout high school, and autonomous schools-within-a-school. These structural changes are typically complemented by other personalization strategies, such as student advisories, family advocate systems, and mentoring programs.

Priorities: There are four priorities in this notice; two are absolute priorities and two are competitive preference priorities. Absolute priority one is from the notice of final priorities (NFP) for this program, published in the Federal Register on May 18, 2007 (72 FR 28426) (the 2007 SLC NFP). Absolute priority two and the competitive preference priorities are from the NFP for this program, published elsewhere in this issue of the Federal Register.

Absolute Priorities: For this competition using FY 2009 funds and any subsequent year in which we make awards from the list of unfunded applicants from this competition, these priorities are absolute priorities. Under 34 CFR 75.105(c)(3) we consider only applications that meet these priorities.

These priorities are:

Preparing All Students to Succeed in Postsecondary Education and Careers.

This priority supports projects that create or expand SLCs that are part of a comprehensive effort to prepare all students to succeed in postsecondary education and careers without need for remediation. In order to meet this priority an applicant must demonstrate that, using SLC grant funds or other resources, it will—

(1) Provide intensive interventions to assist students who enter high school with reading/language arts or mathematics skills that are significantly below grade level to “catch up” quickly and attain proficiency by the end of 10th grade;

(2) Enroll students in a coherent sequence of rigorous English language arts, mathematics, and science courses that will equip them with the skills and content knowledge needed to succeed in postsecondary education and careers without need for remediation;

(3) Provide tutoring and other academic supports to help students succeed in rigorous academic courses;

(4) Deliver comprehensive guidance and academic advising to students and their parents that includes assistance in selecting courses and planning a program of study that will provide the academic preparation needed to succeed in postsecondary education, early and ongoing college awareness and planning activities, and help in identifying and applying for financial aid for postsecondary education; and

(5) Increase opportunities for students to earn postsecondary credit through Advanced Placement courses, International Baccalaureate courses, or dual credit programs.

Common Planning Time for Teachers.

This priority supports projects that increase the amount of time regularly provided to teachers who share the same students or teach the same academic subject for common planning and collaboration during or immediately following the school day without decreasing the amount of time provided to teachers for individual planning and preparation during the school day. To meet this priority, the common planning time must be used for one or more of the following activities:

(1) Structured examination of student work and outcome data.

(2) Collaborative professional development and coaching, including classroom observation.

(3) Identifying instructional and other interventions for struggling students.

(4) Curriculum and assessment development.

An applicant that proposes to meet this priority by regularly scheduling common planning time immediately following the school day must provide a description of how it will ensure that the teachers who will be included are able to and will participate regularly in the common planning time activities.

Competitive Preference Priorities: For this competition using FY 2009 funds and any subsequent year in which we make awards from the list of unfunded applicants from this competition, these priorities are competitive preference priorities. Under 34 CFR 75.105(c)(2)(i) we award an additional 4 points to an application that meets Competitive Preference Priority 1—Projects in which Fifty Percent or More of the Included Schools are Low-Achieving and an additional 2 points to an application that meets Competitive Preference Priority 2—Projects in which at Least One, but Less than Fifty Percent, of the Included Schools are Low-Achieving.

These priorities are:

Competitive Preference Priority 1—Projects in which Fifty Percent or More of the Included Schools are Low-Achieving.

This priority supports projects in which 50 percent or more of the schools to be served by the SLC grant are in any of the following categories:

(a) Persistently lowest-achieving schools (as defined in the final requirements for the School Improvement Grants program (see 74 FR 65618, 65652)).

(b) Title I schools that are in corrective action or restructuring under section 1116 of the ESEA.

(c) Schools that are eligible for, but do not receive Title I funds provided that, if the schools received Title I funds, they would be in corrective action or restructuring under section 1116 of the ESEA.

(d) Title I schools and schools that are eligible for, but do not receive Title I funds that have a graduation rate, as defined in the State's approved accountability plan for Part A of Title I of the ESEA, that is less than 60 percent.

To meet this priority, the applicant must provide evidence that its proposed project includes 50 percent or more of schools from one of the categories (a), (b), (c) or (d) of this priority. This evidence must be based upon data from the current school year or the most recently completed school year and must consist of a signed and dated certification from the Superintendent of the LEA in which the schools are located. This certification must identify the specific category of the priority (i.e., the categories of schools described in paragraphs (a), (b), (c), and (d) of this priority) that applies to each school included in the application.

Competitive Preference Priority 2—Projects in which at Least One, but Less than Fifty Percent, of the Included Schools are Low-Achieving.

This priority supports projects in which at least one, but less than 50 percent of the schools to be served by the SLC grant are in any of the following categories:

(a) Persistently lowest-achieving schools (as defined in the final requirements for the School Improvement Grants program (see 74 FR 65618, 65652)).

(b) Title I schools that are in corrective action or restructuring under section 1116 of the ESEA.

(c) Schools that are eligible for, but do not receive Title I funds provided that, if the schools received Title I funds, they would be in corrective action or restructuring under section 1116 of the ESEA.

(d) Title I schools and schools that are eligible for, but do not receive Title I funds that have a graduation rate, as defined in the State's approved accountability plan for Part A of Title I of the ESEA, that is less than 60 percent.

To meet this priority, the applicant must provide evidence that at least one, but less than 50 percent of schools that are included in its application is in one of the categories (a), (b), (c), or (d) of this priority. This evidence must be based upon data from the current school year or the most recently completed school year and must consist of a signed and dated certification from the Superintendent of the LEA in which the school or schools are located. This certification must identify the specific category of the priority (i.e., the categories of schools described in paragraphs (a), (b), (c), and (d) of this priority) that applies to each school included in the application.

Application Requirements: All applicants must include in their applications the information required by the program statute in title V, part D, subpart 4, section 5441(b) of the ESEA. Applicants also must meet the following requirements:

(a) Student Placement: We require applicants for SLC grants to include a description of how students will be selected or placed in an SLC and an assurance that students will not be placed according to ability or any other measure, but will be placed at random or by student/parent choice and not pursuant to testing or other judgments. (2005 SLC NFP, 70 FR 22233, 22236)

(b) Including All Students: We require applicants for grants to create or expand an SLC project that will include every student within the school by no later than the end of the fifth school year of implementation. Elsewhere in this notice, we define an SLC as an environment in which a group of teachers and other adults within the school knows the needs, interests, and aspirations of each student well, closely monitors each student's progress, and provides the academic and other support each student needs to succeed. (2005 SLC NFP, 70 FR 22233, 22236)

(c) Indirect Costs: Eligible applicants that propose to use SLC grant funds for indirect costs must include, as part of their applications, a copy of their approved indirect cost agreement. (2007 SLC NFP, 72 FR 28426, 28430)

(d) Use of Funds for Equipment: A grantee may not use more than one percent of the grant award in any single budget period during the project period for the acquisition of equipment (as that term is defined in this notice). The first budget period of the SLC project period is 24 months in length and each of the three subsequent budget periods is 12 months in length, for a total of four budget periods. (NFP for this program, published elsewhere in this issue of the Federal Register)

(e) Grant Award Administration: Grantees must designate a single project director who will be principally responsible for managing and providing leadership for the implementation of the practices, programs, and strategies the grantee identified in its application and for communicating with the Department.

Each grantee must ensure that its designated project director—for a grant that includes one school—be not less than fifty percent of a full-time equivalent (FTE) position and that the time commitment of a project director for a grant that includes more than one school be not less than one FTE. (NFP for this program, published elsewhere in this issue of the Federal Register)

(f) Required Meetings Sponsored by the Department: Applicants must set aside adequate funds within their proposed budget to send their project director and at least two individuals from each school included in the application to a two-day technical assistance meeting in Washington, DC, in each year of the project period. The Department will host these meetings. (2007 SLC NFP, 72 FR 28426, 28430)

(g) Collection of Performance Data: Refer to the Performance Measures section of this notice.

(h) No Evaluation: No applicant is required to provide assurances that it will support an evaluation of the project that will produce an annual report for each year of the performance period. (NFP for this program, published elsewhere in this issue of the Federal Register)

(i) No School Report Cards: No applicant is required to include in its application any report card for the schools included in its application. (NFP for this program, published elsewhere in this issue of the Federal Register)

Program Definitions: In addition to the definitions in the authorizing statute and 34 CFR 77.1, the following definitions apply to this program:

BIE School (formerly referred to as a “BIA School”) means a school operated or supported by the Bureau of Indian Education of the U.S Department of the Interior. (2005 SLC NFP, 70 FR 22233, 22237)

Note: We have updated this definition because BIA schools are now operated by the U.S. Department's Bureau of Indian Education. When this definition was originally established for the SLC program, these schools were operated by the U.S. Department's Bureau of Indian Affairs and were referred to as “BIA Schools”.

Equipment means an article of nonexpendable, tangible personal property that has a useful life of more than one year and that has an acquisition cost which equals or exceeds the lesser of the capitalization level established by the governmental unit for financial statement purposes, or $500. It includes, but is not limited to, office equipment and furnishings, modular offices, telephone networks, information technology equipment and systems, air conditioning equipment, reproduction and printing equipment, and motor vehicles. (NFP for this program, published elsewhere in this issue of the Federal Register)

Large High School means an entity that includes grades 11 and 12 and has an enrollment of 1,000 or more students in grades 9 and above. (2005 SLC NFP, 70 FR 22233, 22237)

Smaller Learning Community (SLC) means an environment in which a core group of teachers and other adults within the school knows the needs, interests, and aspirations of each student well, closely monitors each student's progress, and provides the academic and other support each student needs to succeed. (2005 SLC NFP, 70 FR 22233, 22236)

Program Authority: 20 U.S.C. 7249.

Applicable Regulations: (a) The Education Department General Administrative Regulations (EDGAR) in 34 CFR parts 75, 77, 79, 80, 81, 82, 84, 85, 97, 98, and 99. (b) The notice of final priorities published in the Federal Register on April 28, 2005 (70 FR 22233). (c) The notice of final priority, requirements, and selection criteria published in the Federal Register on May 18, 2007 (72 FR 28426). (d) The notice of final priorities, requirements, definition, and selection criteria published elsewhere in this issue of the Federal Register.

II. Award Information

Type of Award: Discretionary grants.

Estimated Available Funds: $32,674,540.

Contingent upon the availability of funds and the quality of applications, we may make additional awards using FY 2010 funds from the list of unfunded applicants from this competition.

Budget and Performance Periods: Grantees will be awarded grants for a period up to 60 months, with the initial award to provide funding for the first 24 months of the performance period. Funding for the remainder of the performance period will be made annually, contingent on the availability of funds and each grantee's substantial progress toward accomplishing the goals and objectives of the project as described in its approved application.

In its application, the applicant must provide detailed, yearly budget information for the total grant period requested. (NFP for this program, published elsewhere in this issue of the Federal Register)

Estimated Range of Awards: $800,000-$5,000,000 for the first 24 months of the project period.

Maximum Award Amounts and Number of Schools: An eligible LEA may receive, on behalf of a single school, up to $2,500,000 of SLC grant funds, depending upon student enrollment in the school, for the entire 60-month project period.

The following chart provides the ranges of awards per high school size:

SLC Award Ranges
Student enrollment | Award ranges per school
1,000-2,000 Students | $1,750,000-$2,000,000
2,001-3,000 Students | 1,750,000-2,250,000
3,001 and Up | 1,750,000-2,500,000

An LEA may include up to five schools in a single application for a SLC grant. Therefore, an LEA applying on behalf of a group of eligible schools would be able to receive up to $12,500,000 for its SLC grant for the entire 60-month project period.

Applications requesting more funds than the maximum amounts specified for any school or for the total grant will not be read as part of the regular application process. However, if, after the Secretary selects applications to be funded, it appears that additional funds remain available, the Secretary has the option of reviewing applications that requested funds exceeding the maximum amounts specified. Under this requirement, if the Secretary chooses to fund any of the additional applications, selected applicants will be required to work with the Department to revise their proposed budgets to fit within the appropriate funding range. (NFP for this program, published elsewhere in this issue of the Federal Register).

Estimated Average Size of Awards: $2,400,000 for the first 24 months of the 60-month project period.

Estimated Number of Awards: 14.

Note: The Department is not bound by any estimates in this notice.

Project Period: Up to 60 months.

III. Eligibility Information

1. Eligible Applicants:

Evidence of Eligibility: LEAs, including schools funded by the Bureau of Indian Education and educational service agencies, applying on behalf of large public high schools, are eligible to apply for a grant. We will not accept applications from LEAs applying on behalf of schools that are being constructed and do not have an active student enrollment at the time of application. LEAs may apply on behalf of no more than five schools. Along with its application, each applicant must provide for each school included in its application:

(a) The school's name, postal mailing address, and the 12-digit identification number assigned to the school by the National Center for Education Statistics.

(b) A signed and dated certification from the Superintendent of the LEA in which the school is located that, based upon data from the current school year or the most recently completed school year, the school is a large public high school as that term is defined in the 2005 SLC NFP (see Definitions section elsewhere in this notice).

Consortium Applications and Educational Service Agencies: In an effort to encourage systemic, district-level reform efforts, we permit an individual LEA to submit only one grant application in a competition, specifying in each application which high schools the LEA intends to fund. In addition, we require that an LEA applying for a grant under this competition apply only on behalf of a high school or high schools for which it has governing authority, unless the LEA is an educational service agency that includes in its application evidence that the entity that has governing authority over the eligible high school supports the application. An LEA, however, may form a consortium with another LEA and submit a joint application for funds. The consortium must follow the procedures for group applications described in 34 CFR 75.127 through 75.129 in EDGAR. An LEA is eligible for only one grant whether the LEA applies independently or as part of a consortium. (2005 SLC NFP, 70 FR 22233, 22236)

Previous Grantees: An LEA may only apply on behalf of a school or schools that are not included in an SLC implementation grant that has a performance period that extends beyond the current fiscal year (i.e., September 30, 2010). (2007 SLC NFP, 72 FR 28426, 28430)

2. Cost Sharing or Matching: This program does not require cost sharing or matching.

IV. Application and Submission Information

1. Address to Request Application Package: You can obtain an application package via the Internet or from the program office.

To obtain a copy via the Internet, use the following address: http://www.ed.gov/programs/slcps/index.html.

To obtain a copy from the program office, contact: Lynyetta Johnson, U.S. Department of Education, 400 Maryland Avenue, SW., room 3E332, LBJ, Washington, DC 20202-6200. Telephone: (202) 260-1990 or by e-mail: smallerlearningcommunities@ed.gov.

Individuals with disabilities can obtain a copy of the application package in an accessible format (e.g., braille, large print, audiotape, or computer diskette) by contacting the person under Accessible Format in section VIII of this notice.

2. Content and Form of Application Submission: Requirements concerning the content of an application, together with the forms you must submit, are in the application package for this program.

Notice of Intent to Apply: July 13, 2010.

Date of Pre-Application Meeting: The application package on the Smaller Learning Communities Web site at http://www.ed.gov/programs/slcp/index.html includes specific dates and times for technical assistance webinar events that will instruct applicants in completing the application package.

Page Limit: The application narrative is where you, the applicant, address the selection criteria that reviewers use to evaluate your application. You must limit the application narrative to no more than 40 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to the cover sheet; the table of contents; the budget section, including the narrative budget justification; the assurances and certifications; the one page abstract; the resumes; the indirect cost agreement; or letters of support. However, the page limit does apply to all of the application narrative section. You must also limit each resume to no more than three pages. We further encourage applicants to limit all other attachments or appendices to no more than 20 pages.

Our reviewers will not read any pages of your application narrative that exceed the page limit.

3. Submission Dates and Times:

Applications Available: June 23, 2010.

Deadline for Notice of Intent to Apply: We will be able to develop a more efficient process for reviewing grant applications if we have a better understanding of the number of applications we will receive. Therefore, we strongly encourage each potential applicant to send an email notice of its intent to apply for funding by July 13, 2010. The notice of intent to apply is optional; you still may submit an application if you have not notified us of your intention to apply. Send the e-mail to: smallerlearningcommunities@ed.gov.

Deadline for Transmittal of Applications: August 9, 2010.

Applications for grants under this program must be submitted electronically using the Electronic Grant Application System (e-Application) accessible through the Department's e-Grants site. For information (including dates and times) about how to submit your application electronically, or in paper format by mail or hand delivery if you qualify for an exception to the electronic submission requirement, please refer to section IV.

6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Funding Restrictions: We reference regulations outlining funding restrictions in the Applicable Regulations section of this notice.

5. Data Universal Numbering System Number, Taxpayer Identification Number, and Central Contractor Registry: To do business with the Department of Education, (1) you must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

6. Other Submission Requirements: Applications for grants under this competition must be submitted electronically unless you qualify for an exception to this requirement in accordance with the instructions in this section.

a. Electronic Submission of Applications.

Applications for grants under the Smaller Learning Communities Program—CFDA Number 84.215L must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Angela Hernandez-Marshall, U.S. Department of Education, 400 Maryland Avenue, SW., room 3E308, LBJ, Washington, DC 20202-6200. FAX: (202) 205-4921.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.215L), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.215L), 550 12th Street, SW., Room 7041, Potomac Center Plaza, Washington, DC 20202-4260.

The Application Control Center accepts hand deliveries daily between 8:00 a.m. and 4:30:00 p.m., Washington, DC time, except Saturdays, Sundays, and Federal holidays. Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria for this competition are from the NFP, published elsewhere in this issue of the Federal Register, and are as follows:

The maximum points assigned to each criterion are indicated in parentheses next to the criterion. Applicants may earn up to a total of 100 points for these selection criteria.

(a) Quality of the Project Design. In determining the quality of the design of the proposed project, we will consider the extent to which—

(1) Teachers, school administrators, parents, and community stakeholders support the proposed project and have been and will continue to be involved in its development and implementation (5 points);

(2) The applicant has carried out sufficient planning and preparatory activities to enable it to implement the proposed project during the school year in which the grant award will be made (5 points);

(3) School administrators, teachers, and other school employees will receive effective, ongoing technical assistance and professional development in implementing structural and instructional reforms and providing effective instruction (5 points); and

(4) The applicant demonstrates that the proposed project is aligned with and advances a coordinated, district-wide strategy to improve student academic achievement and preparation for postsecondary education and careers without need for remediation (5 points).

(b) Quality of Project Services. In determining the quality of the services to be provided by the proposed project, we will consider the extent to which the proposed project is likely to be effective in—

(1) Creating an environment in which a core group of teachers and other adults within the school know the needs, interests, and aspirations of each student well, closely monitor each student's progress, and provide the academic and other support each student needs to succeed (10 points);

(2) Equipping all students with the reading/English language arts, mathematics, and science knowledge and skills they need to succeed in postsecondary education and careers without need for remediation (8 points);

(3) Helping students who enter high school with reading/English language arts or mathematics skills that are significantly below grade-level to “catch up” and attain, maintain and exceed proficiency by providing supplemental instruction and supports to these students during the ninth grade and, to the extent necessary, in later grades (8 points);

(4) Increasing the amount of time regularly provided to teachers for common planning and collaboration during the school day, without decreasing the amount of time provided to teachers for individual planning and preparation during the school day (9 points);

(5) Ensuring, through technical assistance, professional development, and other means, that teachers use opportunities for common planning and collaboration effectively to improve instruction and student academic achievement (9 points);

(6) Increasing the participation of students, particularly low-income students, in Advanced Placement, International Baccalaureate, or dual credit courses that offer students the opportunity to earn simultaneously both high school and college credit (8 points); and

(7) Increasing the percentage of students who enter postsecondary education in the semester following high school graduation by delivering comprehensive career guidance and academic advising to students and their parents that includes assistance in selecting courses and planning a program of study that will provide the academic preparation needed to succeed in postsecondary education and careers, early and ongoing career and college awareness and planning activities, and help in identifying and applying for financial aid for postsecondary education (8 points).

(c) Support for Implementation. In determining the adequacy of the support the applicant will provide for implementation of the proposed project, we will consider the extent to which—

(1) The management plan is likely to achieve the objectives of the proposed project on time and within budget and includes clearly defined responsibilities and detailed timelines and milestones for accomplishing project tasks (7 points); and

(2) The project director and other key personnel are qualified and have sufficient authority to carry out their responsibilities, and their time commitments are appropriate and adequate to implement the SLC project effectively (7 points).

(d) Need for the Project. In determining the need for the proposed project, we will consider the extent to which the applicant has identified specific gaps and weaknesses in the preparation of all students for postsecondary education and careers without need for remediation, the nature and magnitude of those gaps and weaknesses, and the extent to which the proposed project will address those gaps and weaknesses effectively (6 points).

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Each applicant must identify in its application the following specific performance indicators as well as the annual performance objectives to be used for each of these indicators. Specifically, each applicant must use the following performance indicators to measure the progress of each school included in its application:

(a) The percentage of students who score at or above the proficient level on the reading/language arts and mathematics assessments used by the State to determine whether a school has made adequate yearly progress under part A of title I of the ESEA, as well as these percentages disaggregated by subject matter and the following subgroups:

(1) Major racial and ethnic groups.

(2) Students with disabilities.

(3) Students with limited English proficiency.

(4) Economically disadvantaged students.

(b) The school's graduation rate, as defined in the State's approved accountability plan for part A of title I of the ESEA, as well as the graduation rates for the following subgroups:

(1) Major racial and ethnic groups.

(2) Students with disabilities.

(3) Students with limited English proficiency.

(4) Economically disadvantaged students.

(c) The percentage of all graduates who enroll in postsecondary education in the semester following high school graduation, as well as the percentage disaggregated by the following subgroups:

(1) Major racial and ethnic groups.

(2) Students with disabilities.

(3) Students with limited English proficiency.

(4) Economically disadvantaged students.

Each applicant must identify in its application its performance objectives for each of these indicators for each year of the project period and provide baseline data for the third indicator (postsecondary enrollment). The Department will obtain baseline data for the first and second performance indicators (student performance on reading/language arts and mathematics assessments and the graduation rate) and data on the extent to which each school included in a grant achieves its annual performance objectives for each year of the project period from the data that are now reported to the Department by SEAs using the EDEN Submission System (ESS). Grantees are not required to provide these data. However, each grantee must report to the Department annually on the extent to which each school in its grant achieves its performance objectives for the third indicator (postsecondary enrollment).

Finally, grantees must use administrative records maintained by State, national, or regional entities that already collect data on student enrollment in postsecondary education as the principal source of data for this performance indicator. These administrative records include, for example, data available through State longitudinal databases or other sources. Grantees may supplement these records with data collected through surveys administered to students or parents after graduation. (NFP for this program, published elsewhere in this issue of the Federal Register).

VII. Agency Contact

For Further Information Contact: Angela Hernandez-Marshall, U.S. Department of Education, 400 Maryland Avenue, SW., room 3E308, Washington, DC 20202-6200. Telephone: 202-205-1909 or by e-mail: smallerlearningcommunities@ed.gov.

If you use a TDD, call the Federal Relay Service, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 17, 2010.
Thelma Meléndez de Santa Ana,
Assistant Secretary for Elementary and Secondary Education.

[FR Doc. 2010-15084 Filed 6-22-10; 8:45 am]

BILLING CODE 4000-01-P